DEPARTMENT OF HOMELAND SECURITY

Coast Guard

33 CFR Part 104

[Docket No. USCG-2008-0028]

RIN 1625-AB26

Implementation of Vessel Security Officer Training and Certification Requirements—International Convention on Standards of Training, Certification and Watchkeeping for Seafarers, 1978, as Amended

AGENCY: Coast Guard, DHS.

ACTION: Interim rule; correction.

SUMMARY: On May 20, 2008, the Coast Guard published in the Federal Register an interim rule with request for comments to amend its regulations to implement the vessel security officer training and certification amendments to the International Convention on Standards of Training, Certification and Watchkeeping for Seafarers, 1978, as amended, and the Seafarers' Training, Certification and Watchkeeping Code. In the interim rule a clerical error was made stating as an option that to qualify for a VSO endorsement, a person must “have approved sea service of not less than 90 days on any vessel subject to section 104.215 of this part * * *.” Instead, the option should have stated that a person must have not less than six months to qualify for a VSO endorsement, not 90 days. This document corrects that error.

DATES: This interim rule is effective June 19, 2008.

FOR FURTHER INFORMATION CONTACT: If you have questions on this interim rule, contact Ms. Mayte Medina, Maritime Personnel Qualifications Division, Coast Guard, by telephone 202-372-1406 or by e-mail at Mayte.Medina2@uscg.mil. If you have questions on viewing or submitting material to the docket, contact Ms. Renee V. Wright, Program Manager, Docket Operations, telephone 202-366-9826.

SUPPLEMENTARY INFORMATION:

Need for Correction

On May 20, 2008, the Coast Guard published in the Federal Register an interim rule with request for comments to amend its regulations to implement the vessel security officer training and certification amendments to the International Convention on Standards of Training, Certification and Watchkeeping for Seafarers, 1978, as amended, and the Seafarers' Training, Certification and Watchkeeping Code. In 33 CFR 104.215(d)(1)(v)(B), a typographical error was made stating as an option that to qualify for a VSO endorsement, a person must “have approved sea service of not less than 90 days on any vessel subject to section 104.215 of this part * * *.” Instead, the option should have stated that a person must have not less than six months to qualify for a VSO endorsement, not 90 days. In the preamble section of the Interim Rule section, the discussion of 33 CFR 104.215 states that “The sea service requirements in § 104.215 will provide two options: (1.) 12 months; or (2.) 6 months with knowledge of ship operations.” The paragraph further discusses the requirements to qualify under the six-month option. This shows the intent of the Coast Guard to provide an option of sea service of not less than 6 months in § 104.215(d)(v)(B). Since this error would be misleading and cause confusion, this document corrects the typographical error found in amendatory instruction 2.

Correction of Publication

In rule FR Doc. E8-11225 published on May 20, 2008, (73 FR 29060) make the following correction.

§ 104.215 [Corrected]

1. On page 29070, in the second column, revise § 104.215(d)(1)(v)(B) by removing the words “90 days” and adding the words “6 months” in their place.

Dated: June 9, 2008.
David L. Nichols,
Acting Chief, Regulations and Administrative Law, United States Coast Guard.

[FR Doc. E8-13552 Filed 6-16-08; 8:45 am]

BILLING CODE 4910-15-P